INTERNATIONAL TRADE COMMISSION

[Investigation Nos. 731-TA-1535-1536 (Final)]

Methionine From Japan and Spain

Determinations

On the basis of the record ¹ developed in the subject investigations, the United States International Trade Commission (“Commission”) determines, pursuant to the Tariff Act of 1930 (“the Act”), that an industry in the United States is materially injured by reason of imports of methionine from Japan and Spain, provided for in subheadings 2930.40.00 and 2930.90.46 of the Harmonized Tariff Schedule of the United States, that have been found by the U.S. Department of Commerce (“Commerce”) to be sold in the United States at less than fair value (“LTFV”).2 3

¹ The record is defined in § 207.2(f) of the Commission's Rules of Practice and Procedure (19 CFR 207.2(f)).

² 86 FR 38983 and 86 FR 38985 (July 23, 2021).

³ The Commission also finds that imports subject to Commerce's affirmative critical circumstances determination are not likely to undermine seriously the remedial effect of the antidumping duty order on Spain.

Background

The Commission, pursuant to section 735(b) of the Act (19 U.S.C. 1673d(b)), instituted antidumping duty investigations, effective July 29, 2020, following receipt of petitions filed with the Commission and Commerce by Novus International Inc., St. Charles, Missouri. Effective, February 24, 2021, the Commission established a general schedule for the conduct of the final phase of its investigations on methionine, following a preliminary determination by Commerce that imports of methionine from France were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 9, 2021 (86 FR 13585). In light of the restrictions on access to the Commission building due to the COVID-19 pandemic, the Commission conducted its hearing by video conference on May 11, 2021. All persons who requested the opportunity were permitted to participate.

The investigation schedules became staggered when Commerce: (i) Postponed the final determinations for its antidumping duty investigations regarding methionine from Japan and Spain; and (ii) reached an earlier final antidumping duty determination concerning methionine from France. On June 30, 2021, the Commission issued a final affirmative determination in its antidumping duty investigation of methionine from France (86 FR 35826, July 7, 2021). Following notification of final determinations by Commerce that imports of methionine from Japan and Spain were being sold at LTFV within the meaning of section 735(a) of the Act (19 U.S.C. 1673d(a)), notice of the supplemental scheduling of the final phase of the Commission's antidumping duty investigations was given by posting copies of the notice in the Office of the Secretary, U.S. International Trade Commission, Washington, DC, and by publishing the notice in the Federal Register of August 2, 2021 (86 FR 41513).

The Commission made these determinations pursuant to § 735(b) of the Act (19 U.S.C. 1673d(b)). It completed and filed its determinations in these investigations on September 7, 2021. The views of the Commission are contained in USITC Publication 5230 (September 2021), entitled Methionine from Japan and Spain: Investigation Nos. 731-TA-1535-1536 (Final).

By order of the Commission.
Issued: September 7, 2021.
Lisa Barton,
Secretary to the Commission.

[FR Doc. 2021-19563 Filed 9-9-21; 8:45 am]

BILLING CODE 7020-02-P